SOCIAL SECURITY ADMINISTRATION

[Docket No. SSA-2020-0054]

Finding Regarding Foreign Social Insurance or Pension System of Mongolia

AGENCY: Social Security Administration.

ACTION: Notice of finding regarding foreign social insurance or pension system of Mongolia.

SUMMARY: We find that, under the Alien Nonpayment Provision of the Social Security Act (Act), as amended, citizens of Mongolia may not continue to receive Social Security benefits under title II after 6 consecutive calendar months of absence from the United States, unless they meet an exception not related to citizenship of Mongolia. This finding is based on law, information, and data we received about the social insurance system of Mongolia. The Commissioner of Social Security delegated the authority to make this finding to the Deputy Commissioner for Retirement and Disability Policy.

DATES: We will implement this finding on July 1, 2022.

FOR FURTHER INFORMATION CONTACT: Icie K. Allen, Office of Income Security Programs, 2500 Robert Ball Building, 6401 Security Boulevard, Baltimore, MD 21235-6401, (410) 965-8945.

SUPPLEMENTARY INFORMATION: We are prohibited by law from paying benefits under title II of the Act to non-U.S. citizens who remain outside the United States for more than six consecutive calendar months, unless they meet an exception provided in the law. We refer to this portion of the law as the Alien Nonpayment Provision (ANP).¹

¹ Section 202(t) of the Act, 42 U.S.C. 402(t).

We recently reviewed the Mongolian social insurance system to determine if it meets the criteria for an ANP exception. This is our first finding about the social insurance system of Mongolia under the ANP. As a result of this finding, citizens of Mongolia will still be required to meet an exception unrelated to citizenship in order to continue receiving benefits under title II of the Act after six consecutive calendar months outside the United States.

Background: The ANP, section 202(t) of the Act, prohibits payment of title II benefits to individuals who are not U.S. citizens or nationals for any month after they have been outside the United States for more than six consecutive calendar months. Beneficiaries who meet one of the exceptions described in the ANP may continue to receive benefits under title II without regard to absence from the United States. Some of these exceptions require that dependents and survivors meet a 5-year U.S. residency requirement for benefits to continue after six consecutive calendar months of absence from the United States.²

² Section 202(t)(2), (4), (11) of the Act, 42 U.S.C. 402(t)(2), (4), (11).

To determine whether the social insurance or pension system meets the criteria for an exception under section 202(t) of the Act, we review the foreign country's laws. In addition, we review information and data that we receive from the administrators of the social insurance or pension system of that country. The Commissioner of the Social Security Administration publishes these findings in the Federal Register.

In September 2018, we received a completed SSA-142 Report of Social Insurance or Pension System, submitted by the Ministry of Labour and Social Protection of Mongolia.

We conducted a thorough review to reach the finding we describe here.

Section 202(t)(2) Exception

Section 202(t)(2) of the Act provides that the prohibition of payment shall not apply to individuals who are citizens of a foreign country that the Commissioner of Social Security finds has a social insurance or pension system that is in effect and of general application in such country, and that:

(A) pays periodic benefits, or the actuarial equivalent thereof, on account of old age, retirement, or death; and

(B) permits individuals who are U.S. citizens but not citizens of that country and who qualify for benefits to receive those benefits, or the actuarial equivalent thereof, while outside the foreign country regardless of the duration of the absence.

We find that Mongolia does not meet all of the required criteria of section 202(t)(2) of the Act because, although it has a social insurance system that is in effect, is of general application, and meets the conditions in subparagraph (A), the social insurance system does not meet the conditions in subparagraph (B).

Section 202(t)(4) Exception

The ANP exceptions provided in section 202(t)(4) subparagraphs (A) and (B) shall not apply to a citizen of a foreign country that has a social insurance or pension system in effect and of general application, which satisfies section 202(t)(2)(A), but not section 202(t)(2)(B).

Therefore, the ANP exceptions in section 202(t)(4)(A) and (B) do not apply to citizens of Mongolia due to the above finding under section 202(t)(2).

(Catalog of Federal Domestic Assistance Program Nos. 96.001, Social Security—Disability Insurance; 96.002, Social Security—Retirement Insurance; and 96.004, Social Security—Survivors Insurance)

The Acting Commissioner of the Social Security Administration, Kilolo Kijakazi, Ph.D., M.S.W., having reviewed and approved this document, is delegating the authority to electronically sign this document to Faye I. Lipsky, who is the primary Federal Register Liaison for SSA, for purposes of publication in the Federal Register.

Faye I. Lipsky,
Federal Register Liaison, Office of Legislation and Congressional Affairs, Social Security Administration.

[FR Doc. 2022-14098 Filed 6-30-22; 8:45 am]

BILLING CODE 4191-02-P